COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities and deletes product(s) and service(s) previously furnished by such agencies.

DATES: Comments must be received on or before: May 19, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

In accordance with 41 CFR 51-5.3(b), the Committee intends to add these service requirements to the Procurement List as a mandatory purchase only for (contracting activity) at (location) with the proposed qualified nonprofit agency as the authorized source of supply. Prior to adding the service to the Procurement List, the Committee will consider other pertinent information, including information from Government personnel and relevant comments from interested parties regarding the Committee's intent to geographically limit this services requirement.

The following product(s) and service(s) are proposed for addition to the Procurement List for production by the nonprofit agencies listed:

Product(s)

NSN(s)—Product Name(s):

700005401N—Monitor, Desktop, 23.8″

Authorized Source of Supply: Goodwill Vision Enterprises, Rochester, NY

Contracting Activity: DEFENSE LOGISTICS AGENCY, DLA TROOP SUPPORT

Distribution: B-List

Mandatory for: Total Government Requirement

Service(s)

Service Type: Custodial

Mandatory for: US Geological Survey, Earth Resources Observation Science (EROS) Center, Sioux Falls, SD

Authorized Source of Supply: Northwest Center, Seattle, WA

Contracting Activity: US GEOLOGICAL SURVEY, US GEOLOGICAL SURVEY

Service Type: Base Information Transfer Center & Postal Service, Mail Distribution Service

Mandatory for: US Army, Central Mail Facility, Redstone Arsenal, Huntsville, AL

Authorized Source of Supply: Huntsville Rehabilitation Foundation, Inc., Huntsville, AL

Contracting Activity: DEPT OF THE ARMY, W6QK ACC-RSA

Deletions

The following product(s) and service(s) are proposed for deletion from the Procurement List:

Product(s)

NSN(s)—Product Name(s):

9930-00-NIB-0105—Kit, Post Mortem Bag, Basic, Straight Zipper, 36″ x 90″

9930-00-NIB-0106—Kit, Post Mortem Bag, Basic, Curved Zipper, 36″ x 90″

9930-00-NIB-0107—Kit, Post Mortem Bag, Heavy Duty, 36″ x 90″

9930-00-NIB-0108—Kit, Post Mortem Bag, Heavy Duty, XL, 72″ x 90″

9930-00-NIB-0109—Kit, Disaster Bag with ID Tags, 34″ x 96″

Authorized Source of Supply: BOSMA Enterprises, Indianapolis, IN

Contracting Activity: DLA TROOP SUPPORT, PHILADELPHIA, PA

Service(s)

Service Type: Grounds Maintenance Service

Mandatory for: Joint Interagency Task Force South, Truman Annex, Key West, FL

Authorized Source of Supply: Goodwill Industries of South Florida, Inc., Miami, FL

Contracting Activity: DEPT OF THE ARMY, W453 JIATFS

Michael R. Jurkowski,
Director, Business Operations.

[FR Doc. 2024-08416 Filed 4-18-24; 8:45 am]

BILLING CODE 6353-01-P